DEPARTMENT OF TRANSPORTATION

Federal Aviation Administration

14 CFR Part 71

[Docket No. FAA-21707; Airspace Docket No. 05-ACE-22]

Modification of Class E Airspace; Lincoln, NE

AGENCY: Federal Aviation Administration (FAA), DOT.

ACTION: Direct final rule; request for comments; correction.

SUMMARY: This action corrects a direct final rule; request for comments that was published in the Federal Register on Friday, July 29, 2005 (70 FR 43741) [FR Doc. 05-21707].

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 05-21707, published on Friday, July 29, 2005 (70 FR 43741), modified Class E Airspace at Lincoln, NE. The phrase “This Class E airspace area is effective during the specific dates and times established in advance by a Notice to Airmen. The effective date and time will thereafter be continuously published in the Airport/Facility Directory.” was incorrectly deleted from the legal description of the Class E2 airspace. This action corrects that error.

Accordingly, pursuant to the authority delegated to me, the error in the legal description of the Class E2 airspace area at Lincoln, NE, as published in the Federal Register on Friday, July 29, 2005 (70 FR 43741) [FR Doc. 05-21707], is corrected as follows:

PART 71—[AMENDED]

§ 71.1 [Corrected]

On page 43742, Column 3, at the end of the legal description of ACE NE E2 Lincoln, NE, add the phrase “This Class E airspace area is effective during the specific dates and times established in advance by a Notice to Airmen. The effective date and times will thereafter be continuously published in the Airport/Facility Directory.”

Issued in Kansas City, MO, on September 2, 2005.
Elizabeth S. Wallis,
Acting Area Director, Western Flight Services Operations.

[FR Doc. 05-18157 Filed 9-12-05; 8:45 am]

BILLING CODE 4910-13-M